DEPARTMENT OF AGRICULTURE

Grain Inspection, Packers and Stockyards Administration

Opportunity To Comment on the Applicants for the Savage (MN) Area

AGENCY: Grain Inspection, Packers and Stockyards Administration, USDA.

ACTION: Notice.

SUMMARY: GIPSA requests comments on the applicants for designation to provide official services in Minnesota.

DATES: Comments must be postmarked or electronically dated on or before April 2, 2007.

ADDRESSES: Comments must be submitted in writing to USDA, GIPSA, Karen Guagliardo, Review Branch Chief, Compliance Division, STOP 3604, Room 1647-S, 1400 Independence Avenue, SW., Washington, DC 20250-3604. FAX 202-690-2755; e-mail Karen.W.Guagliardo@usda.gov. All comments received will be made available for public inspection at the above address located at 1400 Independence Avenue, SW., during regular business hours.

FOR FURTHER INFORMATION CONTACT: Karen Guagliardo at 202-720-7312, e-mail Karen.W.Guagliardo@usda.gov.

SUPPLEMENTARY INFORMATION: This action has been reviewed and determined not to be a rule or regulation as defined in Executive Order 12866 and Departmental Regulation 1512-1; therefore, the Executive Order and Departmental Regulation do not apply to this action.

In the December 8, 2006, Federal Register (71 FR 71122), GIPSA asked persons interested in providing official services in the Savage, Minnesota, area to submit an application for designation.

There were three applicants for the Savage area: Mid-Iowa Grain Inspection, Inc. (Mid-Iowa) and State Grain Inspection, Inc. (State Grain) both currently designated official agencies. North Dakota Grain Inspection (North Dakota) also applied but subsequently withdrew its application. State Grain applied for designation to provide official services in the entire area currently assigned to them. Mid-Iowa applied for all or part of the area currently assigned to State Grain. GIPSA is publishing this notice to provide interested persons the opportunity to present comments concerning the applicants. Commenters are encouraged to submit reasons and pertinent data for support or objection to the designation of the applicants. All comments must be submitted to the Compliance Division at the above address. Comments and other available information will be considered in making a final decision. GIPSA will publish notice of the final decision in the Federal Register, and GIPSA will send the applicants written notification of the decision.

Authority: 7 U.S.C. 71 et seq.

Pat Donohue-Galvin,
Acting Administrator, Grain Inspection, Packers and Stockyards Administration.

[FR Doc. E7-3647 Filed 3-1-07; 8:45 am]

BILLING CODE 3410-KD-P